DEPARTMENT OF JUSTICE

National Institute of Corrections

Advisory Board Meeting

Time and Date: 8:30 a.m. to 5 p.m. on Monday, October 20, 2003. 8:30 a.m. to 5 p.m. on Tuesday, October 21, 2003.

Place: Homewood by Hilton, 1475 Massachusetts Avenue, NW., Washington, DC 20005.

Status: Open.

Matters to be Considered: Leadership/Management Workgroup Update; Strategic Planning; Division Reports; Interstate Compact activities; and Quarterly Report by Office of Justice Programs and Reentry report from Office of Justice Program and NIC.

Contact Person for More Information: Larry Solomon, Deputy Director, 202-307-3106, ext. 44254.

Morris L. Thigpen,
Director.

[FR Doc. 03-22490 Filed 9-3-03; 8:45 am]

BILLING CODE 4410-36-M